DEPARTMENT OF TRANSPORTATION

Federal Aviation Administration

14 CFR Part 39

[Docket No. FAA-2016-9574; Directorate Identifier 2016-NM-063-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A300 series airplanes; Model A300 B4-600, B4-600R, and F4-600R series airplanes, and Model A300 C4-605R Variant F airplanes (collectively called Model A300-600 series airplanes); and Model A310 series airplanes. This proposed AD is intended to complete certain mandated programs intended to support the airplane reaching its limit of validity (LOV) of the engineering data that support the established structural maintenance program. This proposed AD would require inspecting the forward passenger doors to identify the part number, and for affected doors, inspecting to identify existing repairs and corrective actions if necessary. We are proposing this AD to address the unsafe condition on these products.

DATES: We must receive comments on this proposed AD by April 3, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9574; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone: 425-227-2125; fax: 425-227-1149.

SUPPLEMENTARY INFORMATION:

Comments Invited

We invite you to send any written relevant data, views, or arguments about this proposed AD. Send your comments to an address listed under the ADDRESSES section. Include “Docket No. FAA-2016-9574; Directorate Identifier 2016-NM-063-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

As described in FAA Advisory Circular 120-104 (http://www.faa.gov/documentLibrary/media/Advisory_Circular/120-104.pdf), several programs have been developed to support initiatives that will ensure the continued airworthiness of aging airplane structure. The last element of those initiatives is the requirement to establish an LOV of the engineering data that support the structural maintenance program under 14 CFR 26.21. This proposed AD is the result of an assessment of the previously established programs by the DAH during the process of establishing the LOV for the affected airplanes. The actions specified in this proposed AD are necessary to complete certain programs to ensure the continued airworthiness of aging airplane structure and to support an airplane reaching its LOV.

The European Aviation Safety Agency (EASA), which is the Technical Agent for the Member States of the European Union, has issued EASA AD 2016-0079, dated April 21, 2016 (referred to after this as the Mandatory Continuing Airworthiness Information, or “the MCAI”), to correct an unsafe condition for all Airbus Model A300 series airplanes; Model A300 B4-600, B4-600R, and F4-600R series airplanes, and Model A300 C4-605R Variant F airplanes (collectively called Model A300-600 series airplanes); and Model A310 series airplanes. The MCAI states:

In the frame of the “Ageing Aeroplane Safety Rule Project”, a review of the A300, A300-600 and A310 Structural Repair Manuals (SRMs) was performed against Fatigue and Damage Tolerance criteria to satisfy the ageing aeroplane regulation.

As a result of this review, some repairs concerning the forward passenger door flanges were identified as no longer applicable and had to be de-activated. Those repairs may however have been accomplished on some aeroplanes passenger door flanges prior to de-activation of the repair.

This condition, if not detected and corrected, could reduce the structural integrity of the aeroplane.

To address this potential unsafe condition, Airbus issued Service Bulletin (SB) A300-52-0180, SB A300-52-6084 and SB A310-52-2076 to provide inspection instructions.

For the reasons described above, this [EASA] AD requires identification of the forward passenger door part number (P/N) and a one-time Detailed Inspection (DET) of the forward passenger door frame segments inner flanges for SRM repair embodied and, depending on the results from the identification and inspection, accomplishment of corrective action(s) [e.g., repair].

You may examine the MCAI in the AD docket on the Internet at http://www.regulations.gov by searching for and locating Docket No. FAA-2016-9574.

Related Service Information Under 1 CFR Part 51

We reviewed the following Airbus service information:

• Airbus Service Bulletin A300-52-0180, Revision 01, dated October 14, 2014.

• Airbus Service Bulletin A310-52-2076, Revision 01, dated October 14, 2014.

• Airbus Service Bulletin A300-52-6084, Revision 01, dated October 14, 2014.

The service information describes procedures for inspecting the forward passenger doors on the left- and right-hand sides to identify the part number, and for affected doors, inspecting to identify existing repairs and corrective actions if necessary. These documents are distinct since they apply to different airplane models. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 128 airplanes of U.S. registry.

We estimate the following costs to comply with this proposed AD:

Estimated Costs
Action | Labor cost | Parts cost | Cost per product | Cost on U.S. operators
Part number inspection | 1 work-hour × $85 per hour = $85 | $0 | $85 | $10,880.
Reporting for forward passenger door having P/N A521-71851-000 or P/N A521-71851-001 | 1 work-hour × $85 per hour = $85 | 0 | 85 | Up to 10,880.

We estimate the following costs to do any necessary corrective actions that would be required based on the results of the part number inspection. We have no way of determining the number of airplanes that might need these corrective actions:

On-Condition Costs
Action | Labor cost | Parts cost | Cost per product
Detailed inspection | 7 work-hours × $85 per hour = $595 | $0 | $595

We have received no definitive data that would enable us to provide cost estimates for other on-condition actions specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-9574; Directorate Identifier 2016-NM-063-AD.

(a) Comments Due Date

We must receive comments by April 3, 2017.

(b) Affected ADs

None.

(c) Applicability

This AD applies to Airbus airplanes identified in paragraphs (c)(1) through (c)(6) of this AD, certificated in any category, all manufacturer serial numbers.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(6) Model A310-203, -204, -221, -222, -304, -322, -324, and -325 airplanes.

(d) Subject

Air Transport Association (ATA) of America Code 52, Doors.

(e) Reason

This AD is intended to complete certain mandated programs intended to support the airplane reaching its limit of validity (LOV) of the engineering data that support the established structural maintenance program. We are issuing this AD to detect and correct widespread fatigue damage of the forward passenger doors, which could result in reduced structural integrity of the airplane.

(f) Compliance

Comply with this AD within the compliance times specified, unless already done.

(g) Parts Identification

Within 36 months after the effective date of this AD, or before exceeding the applicable airplane design service goal specified in table 1 to paragraph (g) of this AD, whichever occurs later: Identify the part number on the forward passenger doors on the left-hand and right-hand sides, in accordance with the Accomplishment Instructions of the applicable service information identified in paragraph (g)(1), (g)(2), or (g)(3) of this AD.

(1) Airbus Service Bulletin A300-52-0180, Revision 01, dated October 14, 2014.

(2) Airbus Service Bulletin A300-52-6084, Revision 01, dated October 14, 2014.

(3) Airbus Service Bulletin A310-52-2076, Revision 01, dated October 14, 2014.

Table 1 to Paragraph (g) of This AD—Design Service Goal
Airplane model/series | Design service goal flight cycles or flight hours
A300 B2-100, B2-200, B2-320 | Before the accumulation of 48,000 total flight cycles.
A300 B4-100 | Before the accumulation of 40,000 total flight cycles.
A300 B4-200 | Before the accumulation of 34,000 total flight cycles.
A300 B4-600, B4-600R, F4-600R, C4-600R | Before the accumulation of 30,000 total flight cycles or 67,500 total flight hours, whichever occurs first.
A310-200 | Before the accumulation of 40,000 total flight cycles or 60,000 total flight hours, whichever occurs first.
A310-300 | Before the accumulation of 35,000 total flight cycles or 60,000 total flight hours, whichever occurs first.

(h) Corrective Actions

(1) For airplanes on which no forward passenger door having part number (P/N) A521-71851-000 or P/N A521-71851-001 is found to be installed, after identifying the part number as specified in paragraph (g) of this AD: No further action is required for these airplanes.

(2) For airplanes on which any forward passenger door having P/N A521-71851-000 or P/N A521-71851-001 is found to be installed, after identifying the part number as specified in paragraph (g) of this AD: Before further flight, do a detailed inspection of all frame segment inner flanges of the forward passenger doors with the affected part numbers for installed repairs, in accordance with the Accomplishment Instructions of the applicable service information identified in paragraph (g)(1), (g)(2), or (g)(3) of this AD.

(i) For Airbus Model A300 airplanes: Before further flight, do applicable corrective actions, in accordance with the Accomplishment Instructions of Airbus Service Bulletin A300-52-0180, Revision 01, dated October 14, 2014. Where Airbus Service Bulletin A300-52-0180, Revision 01, dated October 14, 2014, specifies to contact Airbus for appropriate action, and specifies that action as “RC” (Required for Compliance): Before further flight, accomplish corrective actions in accordance with the procedures specified in paragraph (l)(2) of this AD.

(ii) For Airbus Model A310 and A300-600 series airplanes on which the repair principle A310 Structural Repair Manual (SRM) 52-10-00, page block (PB) 201, Figure 209, or A300-600 SRM 52-10-00, PB 201, Figure 206, as applicable, is not embodied on any inner flange, no further action is required for these airplanes.

(iii) For Airbus Model A310 and A300-600 series airplanes on which the repair principle A310 SRM 52-10-00, PB 201, Figure 209, or A300-600 SRM 52-10-00, PB 201, Figure 206, as applicable, is embodied on at least one inner flange: Before further flight, do applicable corrective actions, in accordance with the Accomplishment Instructions of Airbus Service Bulletin A300-52-6084, Revision 01, dated October 14, 2014; or Airbus Service Bulletin A310-52-2076, Revision 01, dated October 14, 2014, as applicable. Where Airbus Service Bulletins A300-52-6084, Revision 01, dated October 14, 2014; and A310-52-2076, Revision 01, dated October 14, 2014, specify to contact Airbus for appropriate action, and specify that action as “RC”: Before further flight, accomplish corrective actions in accordance with the procedures specified in paragraph (l)(2) of this AD.

(i) Reporting Requirement

At the applicable time specified in paragraph (i)(1) or (i)(2) of this AD, report the results of the inspection required by paragraph (h)(2) of this AD to Airbus Service Bulletin Reporting Online Application on Airbus World (https://w3.airbus.com/).

(1) If the inspection was done on or after the effective date of this AD: Submit the report within 30 days after the inspection.

(2) If the inspection was done before the effective date of this AD: Submit the report within 30 days after the effective date of this AD.

(j) Parts Installation Limitations

As of the effective date of this AD, no person may replace a forward passenger door on any airplane, unless the replacement door has been inspected in accordance with the requirements of this AD.

(k) Credit for Previous Actions

This paragraph provides credit for the actions required by paragraphs (g) and (h) of this AD, if those actions were performed before the effective date of this AD using the applicable service information identified in paragraph (k)(1), (k)(2), or (k)(3) of this AD.

(1) Airbus Service Bulletin A300-52-0180, dated September 23, 2014.

(2) Airbus Service Bulletin A300-52-6084, dated September 23, 2014.

(3) Airbus Service Bulletin A310-52-2076, dated September 23, 2014.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone: 425-227-2125; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(4) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA Airworthiness Directive 2016-0079, dated April 21, 2016, for related information. This MCAI may be found in the AD docket on the Internet at http://www.regulations.gov by searching for and locating Docket No. FAA-2016-9574.

(2) For service information identified in this AD, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com. You may view this service information at the FAA, Transport Airplane Directorate, 1601 Lind Avenue SW., Renton, WA. For information on the availability of this material at the FAA, call 425-227-1221.

Issued in Renton, Washington, on January 20, 2017.
Michael Kaszycki,
Acting Manager, Transport Airplane Directorate, Aircraft Certification Service.

[FR Doc. 2017-03019 Filed 2-16-17; 8:45 am]

BILLING CODE 4910-13-P